FEDERAL COMMUNICATIONS COMMISSION

47 CFR Part 73

[DA 10-1805; MB Docket No. 10-117; RM-11601]

Radio Broadcasting Services; Grants Pass, Oregon

AGENCY: Federal Communications Commission.

ACTION: Final rule.

SUMMARY: The Audio Division, at the request of Three Rivers Broadcasting LLC, allots FM Channel 257A at Grants Pass, Oregon, as the community's second commercial FM transmission service. Channel 257A can be allotted at Grants Pass, consistent with the minimum distance separation requirements of the Commission's rules, at coordinates 42-25-25 NL and 123-26-25 WL, with a site restriction of 8.7 km (5.4 miles) west of the community. See SUPPLEMENTARY INFORMATION infra.

DATES: Effective November 12, 2010.

FOR FURTHER INFORMATION CONTACT: Deborah Dupont, Media Bureau, (202) 418-2180.

SUPPLEMENTARY INFORMATION: This is a synopsis of the Commission's Report and Order, MB Docket No. 10-117, adopted September 24, 2010, and released September 27, 2010. The full text of this Commission decision is available for inspection and copying during normal business hours in the FCC Reference Information Center, Portals II, 445 12th Street, SW., Room CY-A257, Washington, DC 20554. The complete text of this decision also may be purchased from the Commission's duplicating contractor, Best Copy and Printing, Inc., 445 12th Street, SW., Room CY-B402, Washington, DC 20554, (800) 378-3160, or via the company's Web site, http://www.bcpiweb.com. This document does not contain proposed information collection requirements subject to the Paperwork Reduction Act of 1995, Public Law 104-13. In addition, therefore, it does not contain any proposed information collection burden “for small business concerns with fewer than 25 employees,” pursuant to the Small Business Paperwork Relief Act of 2002, Public Law 107-198, see 44 U.S.C. 3506 (c)(4). The Commission will send a copy of this Report and Order in a report to be sent to Congress and the Government Accountability Office pursuant to the Congressional Review Act, see U.S.C. 801(a)(1)(A).

List of Subjects in 47 CFR Part 73

Radio, Radio broadcasting.

For the reasons discussed in the preamble, the Federal Communications Commission amends 47 CFR Part 73 as follows:

PART 73—RADIO BROADCAST SERVICES

1. The authority citation for Part 73 continues to read as follows:

Authority: 47 U.S.C. 154, 303, 334, 336.

§ 73.202 [Amended]

2. Section 73.202(b), the Table of FM Allotments under Oregon, is amended by adding Grants Pass, Channel 257A.

Federal Communications Commission.
John A. Karousos,
Assistant Chief, Audio Division, Media Bureau.

[FR Doc. 2010-25751 Filed 10-12-10; 8:45 am]

BILLING CODE 6712-01-P